DEPARTMENT OF COMMERCE

National Telecommunications and Information Administration

Agency Information Collection Activities; Submission to the Office of Management and Budget (OMB) for Review and Approval; Comment Request; State Digital Equity Planning Grant Program

AGENCY: National Telecommunications and Information Administration (NTIA), Commerce.

ACTION: Notice of information collection, request for comment.

SUMMARY: The Department of Commerce, following the Paperwork Reduction Act of 1995 (PRA), invites the public and other Federal agencies to comment on proposed and continuing information collections, which helps us assess the impact of our information collection requirements and minimize the public's reporting burden. This Notice of Information Collection is for the State Digital Equity Planning Grant Program Semi-Annual Performance (Technical) Report and a Public Annual Report. The purpose of this notice is to allow for 60 days of public comment preceding the submission of the collection to OMB.

DATES: To ensure consideration, comments regarding this proposed information collection must be received on or before September 20, 2022.

ADDRESSES: Interested persons are invited to submit written comments to Teri Caswell, Broadband Program Specialist, Grants Management and Compliance, at tcaswell@ntia.gov. Please reference SDEPG Data Collection in the subject line of your comments. Do not submit Confidential Business Information or otherwise sensitive or protected information.

FOR FURTHER INFORMATION CONTACT: Requests for additional information or specific questions related to collection activities should be directed Teri Caswell, Broadband Program Specialist, Grants Management and Compliance, Office of internet Connectivity and Growth, National Telecommunication and Information Administration, U.S. Department of Commerce, 1401 Constitution Avenue NW, Room 4826, Washington, DC 20230, or by email to broadbandusa@ntia.gov or via telephone at (202) 482-2048.

SUPPLEMENTARY INFORMATION:

I. Abstract

The State Digital Equity Planning Grant Program (SDEPG), authorized by Section 60304(c) of the Infrastructure Investment and Jobs Act of 2021, Public Law 117-58, 135 Stat. 429 (November 15, 2021) (Infrastructure Act or Act), provides new federal funding for grants to eligible applicants for the purpose of developing State Digital Equity Plans. Through these Plans, each State will, among other things, identify barriers to digital equity in the State and strategies for overcoming those barriers. Further, U.S. territories and possessions (other than Puerto Rico), Indian Tribes, Alaska Native entities, and Native Hawaiian organizations may also seek grants, cooperative agreements, or contracts to develop their own digital equity plans and, in the case of Tribal entities, to provide input into the digital equity plans of the States in which they are located. The purpose of SDEPG is to promote the achievement of digital equity, support digital inclusion activities, and build capacity for efforts by States relating to the adoption of broadband by residents of those States.

On May 13, 2022, NTIA published the program's Notice of Funding Opportunity (NOFO) on internetforall.gov to describe the requirements under which it will award grants for the SDEPG.¹ The NOFO required award recipients to submit financial reports, performance (technical) reports, and annual reports to the NTIA Federal Program Officer and the NIST Grants Officer and Grants Specialist. Award recipients must follow the reporting requirements described in Sections A.01, Reporting Requirement, of the Department of Commerce Financial Assistance Standard Terms and Conditions (dated November 12, 2020). Additionally, in accordance with 2 CFR part 170, all recipients of a federal award made on or after October 1, 2010, must comply with reporting requirements under the Federal Funding Accountability and Transparency Act of 2006 (Pub. L. 109-282).

¹ See State Digital Equity Planning Grant Program (DE) Notice of Funding Opportunity (NOFO) (May 13, 2022), https://www.internetforall.gov/program/digital-equity-act-programs.

NTIA will use the information collected from each award recipient to effectively administer and monitor the grant program to ensure the achievement of Digital Equity program purposes and account for the expenditure of federal funds to deter waste, fraud, and abuse.

II. Method of Collection

State Digital Equity Planning Grant Program

Award recipients will submit financial and performance reports on a semi-annual basis for the periods ending March 31st and September 30th of each year, and an annual report no later than one year after receiving grant funds and until they have expended all funds. NTIA will collect data through electronic submission.

III. Data

OMB Control Number: 0660-XXXX.

Form Number(s): TBD.

Type of Review: New information collection.

Affected Public: Grant award recipients consisting of States, territories or possessions of the United States, Indian Tribes, Alaska Native entities, and Native Hawaiian organizations.

Estimated Number of Respondents: 606.

Estimated Time per Response: 33.22.

Estimated Total Annual Burden Hours: 60,393.96.

Estimated Total Annual Cost to Public: $2,882,603.71.

Respondent's Obligation: Mandatory.

Legal Authority: Section 60304(c) of the Infrastructure Investment and Jobs Act of 2021, Public Law 117-58, 135 Stat. 429 (November 15, 2021).

IV. Request for Comments

We are soliciting public comments to permit the Department/Bureau to:

(a) Evaluate whether the proposed information collection is necessary for the proper functions of the Department, including whether the information will have practical utility.

(b) Evaluate the accuracy of our estimate of the time and cost burden for this proposed collection, including the validity of the methodology and assumptions used.

(c) Evaluate ways to enhance the quality, utility, and clarity of the information to be collected.

(d) Minimize the reporting burden on those who are to respond, including the use of automated collection techniques or other forms of information technology.

Comments that you submit in response to this notice are a matter of public record. We will include or summarize each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Department PRA Clearance Officer, Office of the Chief Information Officer, Department of Commerce.

[FR Doc. 2022-15672 Filed 7-21-22; 8:45 am]

BILLING CODE 3510-60-P